DEPARTMENT OF ENERGY

Orders Granting Authority To Import and Export Natural Gas, To Import and Export Liquefied Natural Gas, Denying Request for Rehearing, and Granting Motion for Extension of Time To File During April 2016

| FE Docket Nos.
DOMINION COVE POINT LNG, LP | 11-128-LNG
FLINT HILLS RESOURCES, LP | 15-168-LNG
MORGAN STANLEY CAPITAL GROUP, INC | 16-42-LNG
POWER CITY PARTNERS, L.P | 16-41-NG
IGI RESOURCES, INC | 16-46-NG
EMPIRE NATURAL GAS CORPORATION | 16-48-NG
SOCCO, INC | 16-44-NG
JM & RAL ENERGY, INC | 16-51-NG
SEMPRA LNG MARKETING, LLC | 16-52-LNG
TOURMALINE OIL MARKETING CORP | 16-43-NG
SEQUENT ENERGY MANAGEMENT, L.P | 16-40-NG
JORDAN COVE ENERGY PROJECT L.P | 12-32-LNG

AGENCY: Office of Fossil Energy, Department of Energy.

ACTION: Notice of orders.

SUMMARY: The Office of Fossil Energy (FE) of the Department of Energy gives notice that during April 2016, it issued orders granting authority to import and export natural gas, to import and export liquefied natural gas (LNG), denying request for rehearing, and granting motion for extension of time to file. These orders are summarized in the attached appendix and may be found on the FE Web site at http://energy.gov/fe/listing-doefe-authorizationsorders-issued-2016. They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on May 16, 2016.
John A. Anderson,
Director, Office of Regulation and International Engagement, Office of Oil and Natural Gas.

Appendix—DOE/FE Orders Granting Import/Export Authorizations
3331-B | 04/18/16 | 11-128-LNG | Dominion Cove Point LNG, LP | Opinion and Order denying request for rehearing of Order granting Long-term Multi-contract authority to export LNG by vessel from the Cove Point LNG Terminal in Calvert County, Maryland, to Non-free Trade Agreement Nations.
3809 | 04/13/16 | 15-168-LNG | Flint Hills Resources, LP | Order granting Long-term, Multi-contract authority to export LNG in ISO containers or in Bulk Loaded at the Stabilis LNG Eagle Ford, LLC Facility in George West, Texas, and exported by vessel to Free Trade Agreement Nations.
3810 | 04/13/16 | 16-42-LNG | Morgan Stanley Capital Group, Inc | Order granting blanket authority to import LNG from various international sources by vessel.
3811 | 04/13/16 | 16-41-NG | Power City Partners, L.P | Order granting blanket authority to import natural gas from Canada.
3812 | 04/14/16 | 16-46-NG | IGI Resources, Inc. | Order granting blanket authority to import/export natural gas from/to Canada.
3813 | 04/14/16 | 16-48-NG | Empire Natural Gas Corporation | Order granting blanket authority to import/export natural gas from/to Canada.
3814 | 04/14/16 | 16-44-NG | Socco, Inc | Order granting blanket authority to import natural gas from Canada.
3815 | 04/28/16 | 16-51-NG | JM & RAL Energy, Inc | Order granting blanket authority to export natural gas to Mexico.
3816 | 04/28/16 | 16-52-LNG | Sempra LNG Marketing, LLC | Order granting blanket authority to import LNG from various international sources by vessel.
3817 | 04/28/16 | 16-43-NG | Tourmaline Oil Marketing Corp | Order granting blanket authority to import natural gas from Canada.
3818 | 04/29/16 | 16-40-NG | Sequent Energy Management, L.P | Order granting blanket authority to import/export natural gas from/to Canada.
Procedural Order | 04/01/16 | 12-32-LNG | Jordan Cove Energy Project L.P | Order granting Motion for Extension of Time to File Answers to Motions to Intervene and Protests.

[FR Doc. 2016-12281 Filed 5-23-16; 8:45 am]

BILLING CODE 6450-01-P